NATIONAL AERONAUTICS AND SPACE ADMINISTRATION

[Notice: 14-037]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Frances Teel, National Aeronautics and Space Administration, Washington, DC 20546-0001.

FOR FURTHER INFORMATION CONTACT: Requests for additional information or copies of the information collection instrument(s) and instructions should be directed to Frances Teel, NASA PRA Officer, NASA Headquarters, 300 E Street SW., JF0000, Washington, DC 20546, (202) 358-2225.

SUPPLEMENTARY INFORMATION:

I. Abstract

The Kennedy Educational Experiences Program (KEEP) is a job shadowing program intended to provide high school and college level students with a unique opportunity to increase their awareness of the practical application of science, technology, engineering, and mathematics (STEM) careers through a job shadowing experience under the mentorship of a NASA Kennedy Space Center (KSC) subject matter expert. Participation in the program is limited to students who are U.S. citizens and 16 years of age or older. Students will submit (1) an application package that designates their top three areas of interest (computer science, environmental science, engineering, meteorology, physics, etc.) for the job shadowing experience and (2) recommendations from two separate science, math, or technology teachers associated with their current school of enrollment. Students may request a shadowing opportunity from 1-5 days; however the exact shadowing time period is based on the availability of the STEM mentors. This information collection extension includes changes to the instruments/forms for clarity and comprehensibility and the associated burden hours to read the instructions, gather the information, and submit. This 60-day FRN replaces FRN-2014-02-19.

II. Method of Collection

Electronic

III. Data

Title: Kennedy Educational Experiences program (KEEP).

OMB Number: 2700-0135.

Type of review: Extension of approval for a collection of information.

Affected Public: Individuals.

Estimated Number of Respondents: 180.

Estimated Total Annual Burden Hours: 90.

Estimated Total Annual Cost to Respondents: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2014-09046 Filed 4-21-14; 8:45 am]

BILLING CODE 7510-13-P